DEPARTMENT OF THE INTERIOR

National Park Service

[NPS-WASO-NAGPRA-23766; PPWOCRADN0-PCU00RP14.R50000]

Notice of Inventory Completion: U.S. Fish and Wildlife Service, Alaska Region, Anchorage, AK

AGENCY: National Park Service, Interior.

ACTION: Notice.

SUMMARY: The U.S. Fish and Wildlife Service, Alaska Region, (Alaska Region USFWS), has completed an inventory of human remains and associated funerary objects, in consultation with the appropriate Indian Tribes or Native Hawaiian organizations, and has determined that there is a cultural affiliation between the human remains and present-day Indian Tribes or Native Hawaiian organizations. Lineal descendants or representatives of any Indian Tribe or Native Hawaiian organization, including Alaska Native Tribes, not identified in this notice that wish to request transfer of control of these human remains and associated funerary objects should submit a written request to the Alaska Region USFWS. If no additional requestors come forward, transfer of control of the human remains to the lineal descendants, Indian Tribes, or Native Hawaiian organizations stated in this notice may proceed.

DATES: Representatives of any Indian Tribes or Native Hawaiian organizations not identified in this notice that wish to request transfer of control of these human remains should submit a written request with information in support of the request to the Alaska Region USFWS at the address in this notice by October 5, 2017.

ADDRESSES: Edward J. DeCleva, Regional Historic Preservation Officer, U.S. Fish and Wildlife Service, Alaska Region, 1011 East Tudor Road, MS-235, Anchorage, AK 99503, telephone (907) 786-3399, email edward_decleva@fws.gov.

SUPPLEMENTARY INFORMATION: Notice is here given in accordance with the Native American Graves Protection and Repatriation Act (NAGPRA), 25 U.S.C. 3003, of the completion of an inventory of human remains under the control of the Alaska Region USFWS. The human remains and associated funerary objects were recovered from two sites on Kodiak Island, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by the Alaska Region USFWS professional staff in consultation with representatives of the Alutiiq Museum and Archaeological Repository of Kodiak, Alaska, a NAGPRA representative on Kodiak Island designated by the Kaguyak Village, Native Village of Afognak, Native Village of Akhiok, Native Village of Larsen Bay, Native Village of Ouzinkie, Native Village of Port Lions, Sun'aq Tribe of Kodiak (previously listed as the Shoonaq' Tribe of Kodiak), Tangirnaq Native Village (formerly Lesnoi Village (aka Woody Island)), and the Alutiiq Tribe of Old Harbor (previously listed as Native Village of Old Harbor and Village of Old Harbor).

History and Description of the Remains

In 1963, human remains representing, at minimum, 13 individuals were removed from the Younger Kiavak site 418, Alaska Heritage Resources Survey (AHRS) site number 049-KOD-00099, Kodiak Island, AK. There are eight numbered burials and these burials contain nine of the individuals. The human remains include three possible females, two possible males, and eight individuals of indeterminate sex. No known individuals were identified. The 31 associated funerary objects include 3 wood samples, 1 soil sample, 1 sulfide mineral, 2 projectile points, 1 bone labret, 4 ulu blades, 2 spear prongs, 3 modified mammal bone, 1 unmodified bone, 1 metal hammerhead, 1 metal spoon, 1 lot of metal fragments, 1 u-notched stone, 1 bone socket piece, 1 groundstone scrap, 1 stone scrap, 1 lot of prehistoric pottery sherds, 1 glass bottle stopper, 1 chipped stone, 1 mammal tooth, 1 polishing stone, and 1 abrasive stone.

In 1963, human remains representing, at minimum, 2 individuals were removed from the Old Kiavak site 419, AHRS site number 049-KOD-00100, Kodiak Island, AK. The human remains include 2 adult individuals of indeterminate sex. No known individuals were identified. No associated funerary objects are present.

As part of the Aleut-Konyag project conducted by the University of Wisconsin Madison, excavations took place at several sites on Kodiak Island. Two of the sites, Old and Younger Kiavak, are located on the southeastern coast of Kodiak Island, south of the mouth of the lagoon at the head of Kiavak Bay. The Younger Kiavak site, originally tested and reported by Aleš Hrdlička in 1944, contained several eroding burials, glass beads, stone lamps, and unspecified artifacts. During the 1963 excavation, Donald Clark notes that the site revealed sparse evidence of historic occupation, although numerous trade goods accompanied a shallow burial.

The Old Kiavak site is located adjacent to the Younger Kiavak site. Two trenches were excavated in the main mounded portion of the site and a small test trench was excavated in the lower secondary portion of the site. Three components were identified that included the Old Kiavak phase (1678-407 B.C) of the Kachemak tradition, the Early Koniag Tradition (to A.D. 1040), and an historic period occupation (circa A.D. 1900).

The collection was curated and stored at the University of Wisconsin-Madison until 2006. The U.S. Army Corps of Engineers was tasked by the Regional Historic Preservation Officer of the Alaska Region USFWS to determine locations of Alaskan archeological collections. The U.S. Army Corps of Engineers located and recovered this collection, conducted a complete inventory, and returned the human remains to the Alaska Region USFWS for storage.

Determinations Made by the Alaska Region USFWS

Officials of the Alaska Region USFWS have determined that:

• Pursuant to 25 U.S.C. 3001(9), the human remains described in this notice represent the physical remains of 15 individuals of Native American ancestry.

• Pursuant to 25 U.S.C. 3001(3)(A), the 31 objects described in this notice are reasonably believed to have been placed with or near individual human remains at the time of death or later as part of the death rite or ceremony.

• Pursuant to 25 U.S.C. 3001(2), there is a relationship of shared group identity that can be reasonably traced between the Native American human remains and associated funerary objects and the Alutiiq Tribe of Old Harbor (previously listed as Native Village of Old Harbor and Village of Old Harbor).

Additional Requestors and Disposition

Lineal descendants or representatives of any Alaska Native Tribe not identified in this notice that wishes to request transfer of control of these human remains and associated funerary objects should submit a written request with information in support of the request to Edward DeCleva, Regional Historic Preservation Officer/Archaeologist, U.S. Fish and Wildlife Service, Alaska Region, 1011 East Tudor Road, MS-235, Anchorage, AK 99013, telephone (907) 786-3399, email edward_decleva@fws.gov, by October 5, 2017. After that date, if no additional requestors have come forward, transfer of control of the human remains and associated funerary objects to the Alutiiq Tribe of Old Harbor (previously listed as Native Village of Old Harbor and Village of Old Harbor) may proceed.

The Alaska Region USFWS is responsible for notifying the Alutiiq Tribe of Old Harbor (previously listed as Native Village of Old Harbor and Village of Old Harbor) that this notice has been published.

Dated: August 29, 2017.
Sarah Glass,
Acting Manager, National NAGPRA Program.

[FR Doc. 2017-18686 Filed 9-1-17; 8:45 am]

BILLING CODE 4312-52-P